DEPARTMENT OF DEFENSE

Office of the Secretary

Defense Business Board; Notice of Advisory Committee Meeting

AGENCY: Department of Defense, DoD.

ACTION: Notice of Advisory Committee Meeting.

SUMMARY: The Defense Business Board (DBB) will meet in open session on Thursday, September 28, 2006 at the Pentagon, Washington, DC from 8:30 a.m. to 9:30 a.m. The mission of the DBB is to advise the Secretary of Defense on effective strategies for implementation of best business practices of interest to the Department of Defense. At this meeting, the Board will deliberate on recommendations regarding a unified medical system. Topics to be covered include objectives of a unified medical system, cost savings and transition recommendations.

DATES: Thursday, September 28, 2006, 8:30 a.m. to 9:30 a.m.

ADDRESSES: 1155 Defense Pentagon, Room 3C288, Washington, DC 20301-1155.

FOR FURTHER INFORMATION CONTACT: Members of the public who wish to attend the meeting must contact the Defense Business Board no later than Wednesday, September 27th for further information about escort arrangements in the Pentagon. Additionally, those who wish to provide input to the Board should submit written comments by Tuesday, September 26th to allow time for distribution to the Board members prior to the meeting. The DBB may be contacted at: Defense Business Board, 1155 Defense Pentagon, Room 3C288, Washington, DC 20301-1155, via e-mail at defensebusinessboard2@osd.mil or via phone at (703) 697-2168.

Special Note: During the September 6, 2006 DBB meeting, follow-on recommendations to the Board's presentation were requested to be delivered by October 1, 2006. Due to the time constraints of the request, this notice has not been published within the 15 day notification requirement. However, to facilitate maximum particiaption from the public, requests for attendance will be honored through close of business, Wednesday, September 27, 2006.

Dated: September 14, 2006.
C.R. Choate,
Alternate OSD Federal Register Liaison Officer, Department of Defense.

[FR Doc. 06-7769 Filed 9-19-06; 8:45 am]

BILLING CODE 5001-06-M